DEPARTMENT OF AGRICULTURE

Forest Service

Information Collection; Request for Comment; Visitor Permit and Visitor Registration Card

AGENCY: Forest Service, USDA.

ACTION: Notice.

SUMMARY: In accordance with the Paperwork Reduction Act of 1995, the Forest Service is seeking comments from all interested individuals and organizations on the extension of information collection 0596-0019 (Visitor Permit and Visitor Registration Card). This information will help the Forest Service ensure that visitors' use of National Forest System lands is in the public interest and compatible with the mission of the agency.

DATES: Comments must be received in writing on or before September 22, 2006 to be assured of consideration. Comments received after that date will be considered to the extent practicable.

ADDRESSES: Comments concerning this notice should be addressed to Wilderness Program Manager; Wilderness and Wild and Scenic River Staff, Mail Stop 1125, Forest Service, USDA, 1400 Independence Avenue, SW., Washington, DC 20090-1125.

Comments also may be submitted via facsimile to (202) 205-1145 or by e-mail to sboutcher@fs.fed.us.

The public may inspect comments received at the Office of the Director, Wilderness and Wild and Scenic River Staff, 201 14th Street, SW., Washington, DC during normal business hours. Visitors are encouraged to call ahead to (202) 205-0818 to facilitate entry to the building.

FOR FURTHER INFORMATION CONTACT: Steven Boutcher, Wilderness Information Manager, Wilderness and Wild and Scenic River Staff at (802) 951-6771 x1210 or sboutcher@fs.fed.us. Individuals who use telecommunication devices for the deaf (TDD) may call the Federal Relay Service (FRS) at 1-800-877-8339, 24 hours a day, every day of the year, including holidays.

SUPPLEMENTARY INFORMATION: Title: Visitor Permit and Visitor Registration Card.

OMB Number: 0596-0019.

Expiration Date of Approval: December 31, 2006.

Type of Request: Extension of a currently approved collection.

Abstract: The Organic Administration Act (16 U.S.C. 473), the Wilderness Act (16 U.S.C. 1131), Wild and Scenic Rivers Act (16 U.S.C. 1271) and Executive Order 11644 (Use of Off-Road Vehicles in the Public Lands), require the Forest Service manage the forests to benefit both land and people. The information collected from the Visitor's Permit Form (FS-2300-30) and Visitor Registration Card Form (FS-2300-32) will help the Forest Service ensure that visitors' use of National Forest System lands is in the public interest and is compatible with the mission of the agency. Information will be collected from National Forest System land visitors, who will be asked to describe their intended use of the land and their estimated duration of use.

The Visitor's Permit Form (FS-2300-30) is required for visitors to enter many special management areas on National Forest System Lands, including Wilderness Areas, Wild and Scenic Rivers, restricted off-road vehicle areas, and campgrounds where use is controlled through reservation and permit systems. The permit is only used where public use levels must be managed and monitored to prevent resource damage, to preserve the quality of the experience, or to maintain public safety. The personal contact generated by issuance of the permit results in improved visitor education and information about proper camping techniques, fire prevention, safety, and sanitation. The information collected from the Visitor's Permit Form may also be used to respond to indicators or standards in a Forest Plan or Wilderness Management Plan. The Visitor's Permit Form captures the visitor's name and address, area to be visited, dates of visit, length of stay, method of travel, number of people, and number of pack and saddle stock (that is, the number of animals either carrying people or their gear) in the group. The Visitor's Permit is usually issued by Forest Service employees at an office location. Visitors may obtain the permit in person or call ahead and provide the required information over the phone. The information collection does not involve the use of automated, electronic, mechanical, or other technological collection techniques.

The Visitor Registration Card Form (FS-2300-32) is a voluntary registration card, which provides Forest Service managers with an inexpensive means of gathering visitor use information required by management plans, without imposing mandatory visitor permit regulations. Moreover, the information collected can be used to respond to indicators or standards in a Forest Plan or Wilderness Management Plan without requiring a mandatory permit system to gather and record the data. Use of the Visitor Registration Card Form is one of the most efficient means of collecting data from visitors. It allows the Forest Service to collect data in remote locations, where it is not feasible to have permanent staffing. The Visitor Registration Card Form (FS-2300-32) is normally made available at un-staffed entry locations such as trailheads, and is completed by the visitor without Forest Service assistance. The Visitor Registration Card Form provides information from wilderness and special management area visitors including name and address, area to be visited, dates of visit, length of stay, method of travel, number of people, and number of pack and saddle stock (that is, the number of animals either carrying people or their gear) in the group, and number of watercraft or vehicles. The information is collected once from visitors during their visit, and later gathered by Forest Service employees who then analyze the information.

The use of these two forms allows managers to identify heavily used areas, to prepare restoration and monitoring plans that reflect where use is occurring, and in extreme cases, to develop plans to move forest users to lesser impacted areas. They also provide managers with information useful in locating lost forest visitors. Not being able to use these forms could result in overuse and site deterioration in some environmentally sensitive areas. Furthermore, without these forms, the Forest Service would be required to undertake special studies to collect use data, and could be pressed to make management decisions based on insufficient or inaccurate data. The information collected will not be shared with other organizations inside or outside the government.

Estimate of Annual Burden: 3 minutes (FS-2300-30), 3 minutes (FS-2300-32).

Type of Respondents: Individuals and groups requesting use of National Forest System Wilderness and special management areas.

Estimated Annual Number of Respondents: 386,400 respondents.

Estimated Annual Number of Responses per Respondent: 1.

Estimated Total Annual Burden on Respondents: 19,320 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: July 14, 2006.
Gloria Manning,
Associate Deputy Chief.

[FR Doc. E6-11732 Filed 7-21-06; 8:45 am]

BILLING CODE 3410-11-P